DEPARTMENT OF HEALTH AND HUMAN SERVICES

Centers for Disease Control and Prevention

[60Day-17-0739; Docket No. CDC-2016-0114]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuous information collection, as required by the Paperwork Reduction Act of 1995. This notice invites comments on the CDC Chronic Disease Management Information System (CDMIS). The Management Information System is a central repository for the work plans of state oral health programs. This includes their goals, objectives, performance milestones, indicators, oral health program performance activities and budget information.

DATES: Written comments must be received on or before March 20, 2017.

ADDRESSES: You may submit comments, identified by Docket No. CDC-2016-0114 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comments should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

CDC Oral Health Management Information System (OMB Control Number 0920-0739, expires 5/31/2017)—Revision—Division of Oral Health (DOH), National Center for Chronic Disease Prevention and Health Promotion (NCCDPHP), Centers for Disease Control and Prevention (CDC).

Background and Brief Description

The CDC Division of Oral Health (DOH) works with state health departments to improve the oral health of the nation. Targeted efforts include building and/or maintaining effective public health capacity for the implementation, evaluation, and dissemination of evidence-based practices in oral disease prevention and advancement of oral health. Through a cooperative agreement program (Program Announcement DP13-1307), DOH has provided funding to 21 states over a five-year period, in which 3 are basic level awardees and 18 are enhanced level. The current cooperative agreement went into effect in September 2013 and builds on previously funded collaborations involving DOH and state programs.

DOH is currently approved to collect annual progress and activity reports from state-based oral health programs. Historically, an electronic reporting system has been in place since 2007 and was enhanced in 2008 to capture information about grantees' success stories. This system, formerly known as the Management Overview for Logistics, Analysis, and Reporting (MOLAR) system was retired in 2013-14. The new cooperative agreement, DP13-1307, was transitioned to the enhanced CDMIS platform in Fiscal Year (FY) 2013 to align with the CDC Funding Opportunity Announcement (FOA) redesign required for all domestic, non-research FOAs. The redesign emphasized evaluation, performance measurement, and outcomes. The information collected in CDMIS improved CDC's ability to disseminate information about successful public health approaches that can be replicated or adapted for use in other states.

The initial data for DP13-1307 was entered into CDMIS when the cooperative agreement began. Subsequently, only annual progress reports are required for basic and enhanced level awardees. This has resulted in no changes in how the information is collected as well as a reduction in the burden of information required by awardees. The estimated burden for system maintenance and annual reporting is three hours for basic level awardees and nine hours for enhanced level.

The revised method provides a more accurate depiction of burden per respondent in comparison to the method presented in previous OMB requests for approval, which were based on a long-term average burden per response. Even though reports will be submitted to CDC annually, states may enter updates into the MIS at any time. CDC uses all information collected to monitor awardee activities and to provide any technical assistance or follow-up support that may be needed.

OMB approval is requested for three years. Participation in the progress reporting system is a condition of the award for all funded state oral health programs.

All information will be collected electronically and there are no costs to respondents other than their time. The total estimated annualized burden hours are 171.

Estimated Annualized Burden of Hours
Type of respondents | Form name | Number of respondents | Number of responses per respondent | Average burden per response (in hrs.) | Total burden (in hrs.)
Program Awardees Basic Level | Annual Progress Report | 3 | 1 | 3 | 9
Program Awardees Enhanced Level | Annual Progress Report | 18 | 1 | 9 | 162
Total |  |  |  |  | 171

Leroy A. Richardson,
Chief, Information Collection Review, Office Office of Scientific Integrity, Office of the Associate Director for Science Office of the Director, Centers for Disease Control and Prevention.

[FR Doc. 2017-01185 Filed 1-18-17; 8:45 am]

BILLING CODE 4163-18-P